DEPARTMENT OF DEFENSE

Office of the Secretary

TRICARE; Fiscal Year (FY) 2019 Continued Health Care Benefit Program (CHCBP) Quarterly Premium Update

AGENCY: Office of the Secretary, Department of Defense.

ACTION: Notice of CHCBP Quarterly Premiums for FY19.

SUMMARY: This notice provides the CHCBP quarterly premiums for FY19.

DATES: The FY19 rates contained in this notice are effective for services on or after October 1, 2018.

ADDRESSES: Defense Health Agency (DHA), TRICARE Health Plan, 7700 Arlington Boulevard, Suite 5101, Falls Church, Virginia 22042-5101.

FOR FURTHER INFORMATION CONTACT: Mark A. Ellis, telephone (703) 681-0039.

SUPPLEMENTARY INFORMATION: The final rule published in the Federal Register on September 30, 1994 (59 FR 49818) sets forth rules to implement the CHCBP required by Title 10, United States Code, Section 1078a. Included in this final rule were provisions for updating the CHCBP premiums for each Federal FY. As stated in the final rule, the premiums are based on Federal Employee Health Benefit Program employee and agency contributions required for a comparable health benefits plan, plus an administrative fee. Premiums may be revised annually and shall be published when the premium amount is changed.

The DHA has updated the quarterly premiums for FY19 as shown below:

Quarterly CHCBP Premiums for FY19

Individual $1,453.00

Family $3,273.00

The above premiums are effective for services rendered on or after October 1, 2018.

Dated: August 22, 2018.
Aaron T. Siegel,
Alternate OSD Federal Register Liaison Officer, Department of Defense.

[FR Doc. 2018-18531 Filed 8-27-18; 8:45 am]

BILLING CODE 5001-06-P